DEPARTMENT OF AGRICULTURE

Food and Nutrition Service

7 CFR Parts 210 and 220

RIN 0584-AD64

School Food Safety Inspections; Confirmation of Effective Date

AGENCY: Food and Nutrition Service, USDA.

ACTION: Interim rule; confirmation of effective date.

SUMMARY: The provisions of the interim rule entitled School Food Safety Inspections published on June 15, 2005, at 70 FR 34627, could not become effective until approval of the associated information collection requirements by the Office of Management and Budget (OMB). Those requirements were cleared by OMB on August 26, 2005 under OMB Control Number 0584-0006. This document announces the effective date of the information collection provisions contained in the originally-published rule.

DATES: The amendments to 210.15, 210.20 and 220.13 published in the Federal Register on June 15, 2005, at 70 FR 34627, are effective August 26, 2005.

FOR FURTHER INFORMATION CONTACT: Rosemary O'Connell or Marisol Benesch, School Programs Section, Policy and Program Development Branch, Child Nutrition Division, Food and Nutrition Service, USDA, 3101 Park Center Drive, Alexandria, VA 22302; telephone (703) 305-2590.

Dated: November 17, 2005.
Roberto Salazar,
Administrator.

[FR Doc. 05-23579 Filed 12-2-05; 8:45 am]

BILLING CODE 3410-30-P